DEPARTMENT OF STATE

[Public Notice: 12197]

30-Day Notice of Proposed Information Collection: Questionnaire—Loss of United States Nationality; Attestations

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this notice is to allow 30 days for public comment.

DATES: Submit comments up to October 30, 2023.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

• Title of Information Collection: Questionnaire—Loss of United States Nationality; Attestations.

• OMB Control Number: 1405-0178.

• Type of Request: Revision of a Currently Approved Collection.

• Originating Office: Bureau of Consular Affairs, Overseas Citizens Services (CA/OCS).

• Form Number: DS-4079.

• Respondents: United States Citizens.

• Estimated Number of Respondents: 4,850.

• Estimated Number of Responses: 4,850.

• Average Time per Response: 43 minutes.

• Total Estimated Burden Time: 3,475 hours.

• Frequency: Variable by country.

• Obligation to Respond: Voluntary, but if not completed, will not be eligible to request a Certificate of Loss of Nationality of the United States

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The purpose of the information requested on the DS-4079, “Questionnaire—Loss of Nationality,” is to assist the Department of State in determining whether a person who requests a Certificate of Loss of Nationality of the United States based on performance of a potentially expatriating act as defined in Immigration and Nationality Act (INA) Section 349(a)(1)-(5) (8 U.S.C. 1481) or other applicable statutes has met all legal requirements necessary for the U.S. Department of State to approve the request and issue a Certificate of Loss of Nationality of the United States in the requester's name. Immigration and Nationality Act (INA) section 104 (8 U.S.C. 1104); INA section 349 (8 U.S.C. 1481); INA section 350 (8 U.S.C. 1482) [repealed]; INA section 351 (8 U.S.C. 1483); INA section 356 (8 U.S.C. 1488); INA section 358 (8 U.S.C. 1501); and 22 CFR PART 50—Subpart C authorize the Department of State to collect this information.

Methodology

The Bureau of Consular Affairs will post this form on Department of State websites to give respondents the opportunity to complete the form online or print the form and fill it out manually and submit the form in person or by fax or mail.

Elizabeth M. Gracon,
Managing Director, Consular Affairs, Overseas Citizens Services, Department of State.

[FR Doc. 2023-21311 Filed 9-28-23; 8:45 am]

BILLING CODE 4710-06-P